DEPARTMENT OF ENERGY

Federal Energy Regulatory Commission

[Project No. 12429-001]

Clark Canyon Hydro, LLC; Notice of Scoping Meetings and Site Visit and Soliciting Scoping Comments

July 18, 2007.

Take notice that the following hydroelectric application has been filed with Commission and is available for public inspection:

a. Type of Application: Major License.

b. Project No.: 12429-001.

c. Date Filed: August 1, 2006.

d. Applicant: Clark Canyon Hydro, LLC.

e. Name of Project: Clark Canyon Dam Hydroelectric Project.

f. Location: On the Beaverhead River, 18 air miles southwest of the Town of Dillon, Beaverhead County, Montana. The project would occupy 3.5 acres of federal land administered by the Bureau of Reclamation.

g. Filed Pursuant To: Federal Power Act, 16 U.S.C. 791(a)-825(r).

h. Applicant Contact: Brent L. Smith, Northwest Power Services, Inc., P.O. Box 535, Rigby, ID 83442, (208) 745-0834 or Dr. Vincent Lamarra, Ecosystems Research Institute, Inc., 975 South State Highway, Logan, UT 84321.

i. FERC Contact: Dianne Rodman, (202) 502-6077, Dianne.rodman@ferc.gov.

j. Deadline for filing scoping comments: September 20, 2007.

All documents (original and eight copies) should be filed with: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The proposed project would utilize the existing Bureau of Reclamation's Clark Canyon dam, and would consist of the following new facilities: (1) A steel liner in the existing 9-foot-diameter concrete outlet conduit; (2) a new outlet gate structure; (3) a 9-foot-diameter steel penstock bifurcating into an 8-foot diameter and a 6-foot diameter steel penstock directing flow to the turbine units about 70 feet from the bifurcation; (4) a powerhouse containing two generating units with a combined capacity of 4.75 megawatts; (5) a 300-foot-long access road; (6) a switchyard; (7) a 0.3-mile-long, 24.9-kilovolt overhead transmission line connecting the project to the local utility's existing transmission system at a proposed substation; and (8) appurtenant facilities. The average annual generation is estimated to be 16.5 gigawatt hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY at (202) 502-8659. A copy is also available for inspection and reproduction at the address in item h above.

You may also register online at http://www.ferc.gov/docs-filing/esubscription.asp to be notified via e-mail of new filings and issuances related to this or other pending projects. For assistance, contact FERC Online Support.

n. Scoping Process: The Commission intends to prepare an Environmental Assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Tuesday, August 21, 2007.

Time: 2 p.m.

Place: National Guard Armory,

Address: 1070 Highway 41 North, Dillon, MT 59725.

Public Scoping Meeting

Date: Tuesday, August 21, 2007.

Time: 7 p.m.

Place: National Guard Armory,

Address: 1070 Highway 41 North, Dillon, MT 59725.

Copies of the Scoping Document (SD1) outlining the subject areas to be addressed in the EA were distributed to the parties on the Commission's mailing list. Copies of the SD1 will be available at the scoping meeting or may be viewed on the web at http://www.ferc.gov using the “eLibrary” link (see item m above).

Site Visit

The Applicant and FERC staff will conduct a project site visit beginning at 9 p.m. on August 21, 2007. All interested individuals, organizations, and agencies are invited to attend. All participants are responsible for their own transportation to the site. All participants should meet at the public fishing access area immediately below Clark Canyon dam. To reach the access area from Dillon, Montana, (1) proceed south on I-15 approximately 22 miles to the exit marked “Clark Canyon Dam and Recreation Area;” (2) proceed about 0.75 mile across the crest of the dam and take the first right turn about 0.25 mile past the dam to the Beaverhead River Fishing Access; and (3) continue to the public fishing access area immediately below the dam. Upon arrival, all participants must be prepared to present proper identification (e.g., current driver's license or alternate source with picture identification). All participants are subject to government identification investigations and, upon completion, may receive a temporary identification badge for the duration of the visit. Anyone with questions about the site visit should contact Mr. Matt Cutlip of the Commission at 503-552-2762.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Kimberly D. Bose,
Secretary.

[FR Doc. E7-14408 Filed 7-25-07; 8:45 am]

BILLING CODE 6717-01-P